DEPARTMENT OF ENERGY

Federal Energy Regulatory Commission

[Docket No. EC00-137-000, et al.;]

The Connecticut Light and Power Company, et al. Electric Rate and Corporate Regulation Filings

October 4, 2000.

Take notice that the following filings have been made with the Commission:

1. The Connecticut Light and Power Company, et al.; Western Massachusetts Electric Company,

[Docket Nos. EC00-137-000 and ER00-3639-000]

Take notice that on September 26, 2000, The Connecticut Light and Power Company, Western Massachusetts Electric Company, The United Illuminating Company, Central Maine Power Company, Fitchburg Gas and Electric Light Company, New England Power Company, Public Service Company of New Hampshire, Dominion Resources, Inc. and Dominion Nuclear Connecticut, Inc. filed certain work papers in connection with their application under Sections 203 and 205 of the Federal Power Act for approvals relating to the sale of the Millstone Nuclear Power Station.

Comment date: October 16, 2000, in accordance with Standard Paragraph E at the end of this notice.

2. Adirondack Hydro Fourth Branch, LLC

[Docket No. EG00-259-000]

Take notice that on September 29, 2000, Adirondack Hydro Fourth Branch, LLC (Adirondack), filed with the Federal Energy Regulatory Commission an application for determination of exempt wholesale generator status pursuant to Part 365 of the Commission's regulations.

Adirondack owns and operates a 3.3 MW hydroelectric facility located on the Mohawk River in the Town of Waterford, in Saratoga County, New York. Adirondack's business offices are located at 39 Hudson Falls Road in South Glens Falls, New York.

Comment date: October 25, 2000, in accordance with Standard Paragraph E at the end of this notice. The Commission will limit its consideration of comments to those that concern the adequacy or accuracy of the application.

3. CinCap VI, LLC

[Docket No. ER00-3792-000]

Take notice that on September 29, 2000, Sunbury Holdings, LLC, on behalf of CinCap VI, LLC (CinCap), tendered for filing under Section 205 of the Federal Power Act, a Notice of Succession in Ownership regarding the transfer of interest in an interconnection agreement between Cinergy Capital & Trading, Inc. (CCT) and PPL Electric Utilities Corporation from CCT to CinCap.

Comment date: October 20, 2000, in accordance with Standard Paragraph E at the end of this notice.

4. American Transmission Systems, Inc.

[Docket No. ER00-3594-000]

Take notice that on September 25, 2000, American Transmission Systems, Inc. (ATSI), tendered for filing notice of withdrawal of its September 5, 2000 filing made with the Commission in the above-referenced docket.

Comment date: October 16, 2000, in accordance with Standard Paragraph E at the end of this notice.

5. Praxair, Inc.

[Docket No. ER00-3767-000]

Take notice that on September 28, 2000, Praxair, Inc. (Praxair), tendered for filing pursuant to Rules 205 and 207 of the Federal Energy Regulatory Commission's (Commission) Rules of Practice and Procedure, 18 CFR 385.205 and 385.207, and Section 35.12 of the Commission's Regulations, 18 CFR 35.12, an application for blanket authorizations and certain waivers under various regulations of the Commission, and for an order accepting its FERC Electric Rate Schedule No.1 to be effective the earlier of 60 days from the date of filing or the date of a Commission order granting approval of this Rate Schedule.

Praxair intends to engage in electric power and energy transactions as a marketer. In transactions where Praxair purchases power, including capacity and related services from electric utilities, qualifying facilities and independent power producers, and resells such power to other purchasers, Praxair will be functioning as a marketer. In Praxair's marketing transactions, Praxair proposes to charge rates mutually agreed upon by the parties. Praxair is not in the business of producing nor does it contemplate acquiring title to any electric power transmission facilities.

Comment date: October 19, 2000, in accordance with Standard Paragraph E at the end of this notice.

6. Baltimore Gas and Electric Company

[Docket No. ES00-54-000]

Take notice that on September 26, 2000, Baltimore Gas and Electric Company submitted an application pursuant to section 204 of the Federal Power Act seeking authorization to issue not more than $700 million of short-term unsecured promissory notes, commercial paper notes, medium-term notes, and guarantees of assumptions of liabilities or obligations with a final maturity date no later than December 31, 2003.

Comment date: October 24, 2000, in accordance with Standard Paragraph E at the end of this notice.

7. Basin Electric Power Cooperative, Inc.

[Docket No. NJ00-7-000]

Take notice that on September 29, 2000, Basin Electric Power Cooperative (Basin Electric), tendered for filing a petition for a declaratory order finding that its open access transmission tariff providing for service on its facilities in the Western Interconnection is an acceptable reciprocity tariff under Order Nos. 888 and 888-A. Basin Electric also requests a waiver of the fee otherwise applicable to the filing of a request for declaratory order.

Comment date: November 3, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-26118 Filed 10-11-00; 8:45 am]

BILLING CODE 6717-01-P